DEPARTMENT OF HEALTH AND HUMAN SERVICES

Substance Abuse and Mental Health Services Administration

Center for Mental Health Services; Notice of Meeting

Pursuant to Public Law 92-463, notice is hereby given of a closed teleconference meeting of the SAMHSA/Center for Mental Health Services (CMHS) National Advisory Council to be held on July 27, 2006.

The meeting will include the review, discussion and evaluation of individual grant applications.Therefore, the meeting will be closed to the public as determined by the SAMHSA Administrator, in accordance with Title 5 U.S.C. 552b(c)(6) and 5 U.S.C. App. 2., section 10(d).

A summary of the meeting and a roster of Council members may be obtained after the meeting by contacting Mr. Michael Malden (see contact information below) or by accessing the SAMSHSA Council Web site, http://www.samhsa.gov/council.

Committee Name: Substance Abuse and Mental Health Services Administration Center for Mental Health Services National Advisory Council.

Meeting Date: July 27, 2006.

Place: SAMHSA Building, 1 Choke Cherry Road, Conference Room 6-1060, Rockville, Maryland 20857.

Type: (Closed) July 27, 2006; 12:30 p.m.-2 p.m.

For Further Information Contact: Michael Malden,Acting Executive Secretary, SAMHSA/CMHS National Advisory Council, 1 Choke Cherry, Room 6-1083, Rockville, Maryland 20857.Telephone: (240) 276-1896. Fax: (240) 276-1850.E-mail: Michael.Malden@samhsa.hhs.gov.

Dated: July 11, 2006.
Toian Vaughn,
Committee Management Officer, Substance Abuse and Mental Health Services Administration.

[FR Doc. E6-11341 Filed 7-17-06; 8:45 am]

BILLING CODE 4162-20-P